ENVIRONMENTAL PROTECTION AGENCY

[FRL-9455-8]

State Program Requirements; Approval of Application for Program Revision to the National Pollutant Discharge Elimination System (NPDES) Program; Alaska

AGENCY: Environmental Protection Agency (EPA).

ACTION: Notice.

SUMMARY: On August 11, 2011, the Regional Administrator for the Environmental Protection Agency, Region 10 (EPA), approved the application by the State of Alaska to revise Alaska's National Pollutant Discharge Elimination System (NPDES) program pursuant to section 402 of the Clean Water Act (CWA or “the Act”). The revised State program, called the Alaska Pollutant Discharge Elimination System (APDES), includes an implementation plan that transfers the administration of specific program components from EPA to the Alaska Department of Environmental Conservation (ADEC) in four phases. Phases I-III have been transferred from the EPA to ADEC. In March 2011, ADEC made a submission for approval for a one year extension of the transfer of Phase IV of the APDES program, which includes oil and gas, cooling water intakes and dischargers, munitions and all other remaining facilities not previously transferred in Phases I-III. The EPA approved the one year extension for Phase IV. Phase IV will transfer to ADEC four years from the date of program approval, or October 31, 2012. Upon approval of the program revision, the Regional Administrator notified the State and signed the modified Memorandum of Agreement (MOA) between EPA and ADEC. The EPA will suspend issuance of applicable NPDES permits in Alaska in accordance with the extension for transfer of NPDES program authority for Phase IV.

DATES: Pursuant to 40 CFR 123.62(b), the APDES program revision was approved and became effective on August 11, 2011.

FOR FURTHER INFORMATION CONTACT: To obtain further information or copies of related documents, contact Hanh Shaw, Office of Water and Watersheds, U.S. Environmental Protection Agency, Region 10, 1200 6th Avenue, Suite 900, Mail Stop OWW-130, Seattle, WA 98101-3140, (206) 553-0171, shaw.hanh@epa.gov or Theresa Svancara, theresa.svancara@alaska.gov, Alaska Department of Environmental Conservation, P.O. Box 111800, 410 Willoughby Avenue, Suite 303, Juneau, AK 99811-1800, (907) 465-5257, theresa.svancara@alaska.gov. The ADEC's modified program description, the modified MOA related to the approved APDES program revision and the EPA's responses to comments can be viewed and downloaded from the EPA Web site http://yosemite.epa.gov/r10/water.nsf/NPDES+Permits/apdes and from the ADEC Web site http://www.dec.state.ak.us/water/npdes/index.htm.

SUPPLEMENTARY INFORMATION: Section 402 of the CWA created the NPDES program under which the EPA may issue permits for the point source discharge of pollutants to waters of the United States under conditions required by the Act. Section 402 also provides that the EPA may approve a State to administer an equivalent state NPDES program. The EPA approved the APDES program application on October 31, 2008. The APDES program application was described in the Federal Register (73 FR 34746) published on June 18, 2008. The approved program authorized ADEC to assume responsibility for the NPDES program in four phases over three years from the date of APDES program approval. ADEC currently has NPDES permit administration authority for Phases I-III. These three phases cover the following major components: Phase I includes domestic discharges (excluding the bio-solids program), timber harvesting, seafood processing facilities and hatcheries; Phase II includes federal facilities, stormwater program, pretreatment program, and miscellaneous non-domestic discharges; and Phase III includes mining. The original ADEC phasing schedule authorized the transfer of Phase IV three years from APDES program approval, or October 31, 2011. Phase IV components include oil and gas, cooling water intakes and dischargers, munitions, and all other remaining facilities not previously transferred in Phases I-III.

A. Scope of APDES Program Revision

ADEC proposed a delay of the Phase IV transfer for one year, or until October 31, 2012, by letter dated March 14, 2011. ADEC also submitted a modified APDES program description and a modified MOA related to the APDES program revision. The only changes proposed to the program description related to the one year extension for the transfer of the Phase IV program component and updating of the Phase IV permit list. The modifications incorporated the proposed one year extension of the Phase IV transfer.

The APDES program revision was described in the Federal Register (76 FR 28027) published on May 13, 2011. Notice of the program revision was published in two Alaska newspapers. A public comment period was held from May 13-June 27, 2011. A public hearing on the program revision was held in Anchorage, Alaska on June 13, 2011. Additionally, the EPA held government-to-government consultation teleconferences on April 26, 27 and 28, 2011 for interested tribes

B. Public Comments

The EPA received comments concerning the APDES program revision, including comments in support of the Phase IV extension. The EPA did not receive any comments urging the EPA to disapprove the requested program revision. One commenter did not support a time extension for any greater length of time. A Tribal association suggested that the EPA consider adopting stipulations related to jurisdiction issues and authorities of federally-recognized tribal governments in Alaska. All public comments are addressed in the EPA response to comments document dated August 2011, which can be viewed and downloaded from the EPA Web site http://yosemite.epa.gov/r10/water.nsf/NPDES+Permits/apdes.

C. Notice of Decision

I hereby provide public notice that the EPA has taken final action approving the APDES program revision extending the Phase IV transfer date to October 31, 2012.

Authority: This action is taken under the authority of Section 402 of the Clean Water Act as amended, 42 U.S.C. 1342.

Dated: August 16, 2011.
Dennis McLerran,
Regional Administrator, U.S. Environmental Protection, Region 10.

[FR Doc. 2011-21538 Filed 8-22-11; 8:45 am]

BILLING CODE 6560-50-P